DEPARTMENT OF THE DEFENSE

Office of the Secretary

Missile Defense Advisory Committee (MDAC)

AGENCY: Missile Defense Agency (MDA).

ACTION: Notice of Closed Meeting.

SUMMARY: The Missile Defense Advisory Committee will meet in closed session on November 28-29, 2006, in Washington, DC.

The mission of the Missile Defense Advisory Committee is to provide the Department of Defense advice on all matters relating to missile defense, including system development, technology, program maturity and readiness of configurations of the Ballistic Missile Defense System (BMDS) to enter the acquisition process. At this meeting, the Committee will conduct classified discussions on capability-based acquisition.

FOR FURTHER INFORMATION CONTACT: COL David R. Wolf, Designated Federal Official (DFO) at david.wolf@mda.mil, phone/voice mail (703) 695-6438, or mail at 7100 Defense Pentagon, Washington, DC 20302-7100.

SUPPLEMENTARY INFORMATION: In accordance with Section 10(d) of the Federal Advisory Committee Act, Pub. L. 92-463, as amended (5 U.S.C. App. II), it has been determined that this Missile Defense Advisory Committee meeting concerns matters listed in 5 U.S.C. 552b(c)(1) and that, accordingly, the meeting will be closed to the public.

Dated: October 19, 2006.
C.R. Choate,
Alternate OSD Federal Register Liaison Office, Department of Defense.

[FR Doc. 06-8868 Filed 10-24-06; 8:45 am]

BILLING CODE 5001-06-M